FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 012355-002.

Agreement Name: CMA CGM/SL Gulf Bridge Express Slot Charter Agreement.

Parties: CMA CGM S.A.; Maersk A/S dba Sealand.

Filing Party: Draughn Arbona, CMA CGM (America) LLC.

Synopsis: The Amendment increases the Parties' allocations to reflect larger capacity vessels being brought into the trade and expands the geographic scope of the Agreement to include Brazil. The Parties have requested expedited review.

Proposed Effective Date: 11/27/2022.

Location: https://www2.fmc.gov/FMC.Agreements.Web/Public/AgreementHistory/49.

Agreement No.: 201334-001.

Agreement Name: COSCO/ONE/OOCL/YM EMED-USEC Vessel Sharing Agreement.

Parties: CMA CGM S.A.; COSCO SHIPPING Lines Co., Ltd; Ocean Network Express Pte. Ltd.; and Orient Overseas Container Line Limited; OOCL (Europe) Limited.

Filing Party: Robert Magovern, Cozen O'Connor.

Synopsis: The Amendment renames the agreement to the COSCO/ONE/OOCL/CMA CGM EMED-USEC Vessel Sharing Agreement. The Amendment deletes Yang Ming Marine Transport Corp., Yang Ming (UK) Ltd., Yang Ming (Singapore) Pte. Ltd. as parties to the agreement and adds CMA CGM S.A. as a party to the agreement. The Amendment also removes Israel from the scope; revises the agreement to update the BSAs for each of the parties; and updates the duration and resignation section of the agreement.

Proposed Effective Date: 11/24/2022.

Location: https://www2.fmc.gov/FMC.Agreements.Web/Public/AgreementHistory/27479.

Agreement No.: 201393.

Agreement Name: CMA CGM/COSCO Vessel Sharing Agreement Mediterranean—U.S. Gulf & East Coast.

Parties: CMA CGM S.A.; COSCO SHIPPING Lines Co., Ltd.

Filing Party: Draughn Arbona, CMA CGM (America) LLC.

Synopsis: The Agreement authorizes CMA CGM and COSCO to share vessels with one another and cooperate on a liner service in the trade between Italy, France, Spain, and Morocco on the one hand and the U.S. Gulf Coast and East Coast on the other hand.

Proposed Effective Date: 11/24/2022.

Location: https://www2.fmc.gov/FMC.Agreements.Web/Public/AgreementHistory/69503.

Dated: October 14, 2022.
William Cody,
Secretary.

[FR Doc. 2022-22709 Filed 10-18-22; 8:45 am]

BILLING CODE 6730-02-P